DEPARTMENT OF VETERANS AFFAIRS

Advisory Committee on Disability Compensation; Notice of Meeting

The Department of Veterans Affairs (VA) gives notice under Public Law 92-463

(Federal Advisory Committee Act) that the Advisory Committee on Disability Compensation will meet on October 19-20, 2009, in the Carlton Ballroom at the St. Regis, 923 16th and K Streets, NW., Washington DC, from 8:30 a.m. to 5 p.m. each day. The meeting is open to the public.

The purpose of the Committee is to advise the Secretary of Veterans Affairs on the maintenance and periodic readjustment of the VA Schedule for Rating Disabilities. The Committee is to assemble and review relevant information relating to the nature and character of disabilities arising from service in the Armed Forces, provide an ongoing assessment of the effectiveness of the rating schedule and give advice on the most appropriate means of responding to the needs of veterans relating to disability compensation.

On October 19, the Committee will receive briefings from representatives about medical aspects of Veteran's disability compensation procedures and programs, VA Schedule for Rating Disabilities, Veterans centers challenges and how they are being met, and Veterans service organizations resolutions and/or legislative issues pertaining to the mission of the Committee.

On October 20, the Committee will receive briefings from representatives about quality of life from the VA vocational rehabilitation perspective, loan guarantee programs, the adjustment/impact due to medical condition relating to quality of life, and the Institute of Medicine's study on reintegration of military personnel.

Time will be allocated for receiving public comments at 1 p.m. on October 19. Public comments will be limited to three minutes each. Individuals wishing to make oral statements before the Committee will be accommodated on a first-come, first-served basis. Individuals who speak are invited to submit 1-2 page summaries of their comments at the time of the meeting for inclusion in the official meeting record.

The public may submit written statements for the Committee's review to Ms. Ersie Farber, Designated Federal Officer, Department of Veterans Affairs, Veterans Benefits Administration (211A), 810 Vermont Avenue, NW., Washington, DC 20420. Any member of the public wishing to attend the meeting or seeking additional information should contact Ms. Farber at (202) 461-9728 or Ersie.farber@va.gov.

Dated: September 25, 2009.
By Direction of the Secretary.
Vivian Drake
Acting Committee Management Officer.

[FR Doc. E9-23579 Filed 9-29-09; 8:45 am]

BILLING CODE 8320-01-P